DEPARTMENT OF THE INTERIOR

National Park Service

[5017-7145-409]

Draft Environmental Impact Statement for the General Management Plan, Buck Island Reef National Monument, Virgin Islands

AGENCY: National Park Service, Interior.

ACTION: Notice of Availability of a Draft Environmental Impact Statement for the General Management Plan (DEIS/GMP), Buck Island Reef National Monument, Virgin Islands.

SUMMARY: Pursuant to 42 U.S.C. 4332(2)(C) of the National Environmental Policy Act of 1969 and National Park Service (NPS) policy in Director's Order Number 2 (Park Planning) and Director's Order Number 12 (Conservation Planning, Environmental Impact Analysis, and Decision-making) the NPS announces the availability of a DEIS/GMP for Buck Island Reef National Monument, Virgin Islands.

The document provides a framework for management, use, and development options for Buck Island Reef National Monument by the NPS for the next 15 to 20 years. It describes four management alternatives for consideration, including a No-Action Alternative that continues current management policies and the NPS's preferred alternative. The document analyzes the environmental impacts of the alternatives.

DATES: There will be a 60-day comment period beginning with the Environmental Protection Agency's publication of its notice of availability in the Federal Register.

ADDRESSES: Copies of the DEIS/GMP are available by contacting the Park Superintendent at Christiansted National Historic Site, 2100 Church Street, 100 Danish Customs House, St. Croix, Virgin Islands 00820-4611; telephone: 340-773-1460. An electronic copy of the DEIS/GMP is available on the Internet at http://parkplanning.nps.gov.

FOR FURTHER INFORMATION CONTACT: Contact the Superintendent, Buck Island Reef National Monument, at the address and telephone number shown above. An electronic copy of the DEIS/GMP is available on the Internet at http://parkplanning.nps.gov/parkHome.cfm?parkID=357.

The responsible official for this DEIS/GMP is the Regional Director, Southeast Region, NPS, 100 Alabama Street SW., 1924 Building, Atlanta, Georgia 30303.

SUPPLEMENTARY INFORMATION: There will be a 60-day comment period beginning with the Environmental Protection Agency's publication of its notice of availability in the Federal Register. If you wish to comment on the DEIS/GMP, you may submit your comments by any one of several methods. You may mail comments to the Superintendent at the address shown above. You may also submit a comment via the Internet at http://parkplanning.nps.gov. Finally, you may present your comments in person at the public meetings to be held on St. Croix during the public review period.

Before including your address, phone number, email address, or other personal identifying information in your comment, be advised that your entire comment—including your personal identifying information—may be made publicly available at any time. While you can ask us in your comment to withhold from public review your personal identifying information, we cannot guarantee that we will be able to do so.

The DEIS/GMP presents three management alternatives for Buck Island Reef National Monument in addition to the no-action alternative. As a no-take marine reserve, the DEIS/GMP seeks to achieve an acceptable standard of service for resource protection and visitor experience within the park's 19,015 acres.

The four alternatives and their key provisions are summarized. Alternative A (No-action Alternative): The continuation of current management practices and trends. This alternative would limit anchoring and provide access to Buck Island for up to 87 vessels. Alternative B (The NPS Preferred Alternative): This alternative provides for moorings and limited opportunities for anchoring for vessels at designated locations. No bow and stern anchoring would be permitted under this alternative, and anchoring would be phased out over 10 years. This alternative would provide access to Buck Island for up to 72 vessels. Alternative C: This alternative provides for bow and stern anchoring and new moorings. Access to Buck Island would be provided for up to 92 vessels. Alternative D: This alternative provides for recreational opportunities similar to existing conditions under Alternative A, with the exception that shoreline bow and stern anchoring would be eliminated. Access to Buck Island would be provided for up to 112 vessels.

Authority: The authority for publishing this notice is 40 CFR 1506.6.

Dated: February 17, 2012.
Gordon Wissinger,
Acting Regional Director, Southeast Region.

[FR Doc. 2012-4753 Filed 2-28-12; 8:45 am]

BILLING CODE P